DEPARTMENT OF HEALTH AND HUMAN SERVICES

Substance Abuse and Mental Health Services Administration

Center for Substance Abuse Treatment; Notice of Meeting

Pursuant to Public Law 92-463, notice is hereby given of the meeting of the Center for Substance Abuse Treatment (CSAT) National Advisory Council in February 2006.

The meeting is open and will include discussion of the Center's policy issues, current administrative, legislative, and program developments.

Attendance by the public will be limited to space available. Public comments are welcome. Please communicate with the individual listed below as contact to make arrangements to comment or to request special accommodations for persons with disabilities.

Substantive program information and a roster of Council members may be obtained by accessing the SAMHSA Advisory Council Web site (http://www.samhsa.gov) after the meeting or by communicating with the contact whose name and telephone number are listed below. The transcript for the open session will also be available on the SAMHSA Advisory Council Web site by February 27, 2005.

Committee Name: Substance Abuse and Mental Health Services Administration Center for Substance Abuse Treatment National Advisory Council.

Meeting Dates: February 2—9 a.m.-5 p.m.; February 3—9 a.m.-1 p.m.

Place: 1 Choke Cherry Road, Sugar Loaf and Seneca Conference Rooms, Rockville, Maryland 20857.

Type: Open: February 2—9 a.m.-5 p.m.; Open: February 3—9 a.m.-1 p.m.

Contact: Cynthia Graham, M.S., Executive Secretary, SAMHSA/CSAT National Advisory Council, 1 Choke Cherry Road, Room 5-1036, Rockville, MD 20857, Telephone: (240) 276-1692, Fax: (240) 276-1690, E-mail: cynthia.graham@samhsa.hhs.gov.

Dated: December 28, 2005.
Toian Vaughn,
Committee Management Officer, Substance Abuse and Mental Health Services Administration.

[FR Doc. E6-7 Filed 1-5-06; 8:45 am]

BILLING CODE 4162-20-P